DEPARTMENT OF AGRICULTURE

Grain Inspection, Packers and Stockyards Administration

[01-01-S2]

Designation for the Amarillo (TX), Schaal (IA), and Wisconsin Areas; Designation of Columbus (OH) and Michigan (MI) for the Fostoria (OH) Area

AGENCY: Grain Inspection, Packers and Stockyards Administration (GIPSA).

ACTION: Notice.

SUMMARY: GIPSA announces designation of the following organizations to provide official services under the United States Grain Standards Act, as amended (Act):

Amarillo Grain Exchange, Inc. (Amarillo);

Columbus Grain Inspection, Inc. (Columbus);

Michigan Grain Inspection Services, Inc. (Michigan);

D.R. Schaal Agency, Inc. (Schaal); and

Wisconsin Department of Agriculture, Trade and Consumer Protection (Wisconsin).

EFFECTIVE DATE: December 1, 2001.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the March 8, 2001, Federal Register (66 FR 13874), GIPSA asked persons interested in providing official services in the geographic areas assigned to the official agencies named above to submit an application for designation. Applications were due by March 31, 2001.

Amarillo, Schaal, and Wisconsin were the sole applicants for designation to provide official services in the entire area currently assigned to them, so GIPSA did not ask for comments on them.

There were three applicants for the Fostoria area: Columbus, Fostoria Grain Inspection, Inc. (Fostoria), and Michigan, all designated official agencies. Fostoria applied for designation to provide official services in the entire area currently assigned to them. Columbus and Michigan applied for designation to provide official services in all or part of the Fostoria geographic area. GIPSA asked for comments on the applicants for providing service in the Fostoria area in the June 1, 2001, Federal Register (66 FR 29765). Comments were due by June 30, 2001. GIPSA received six comments by the due date. There were no comments regarding Columbus. Two of Fostoria's current customers supported designation of Fostoria for the area they currently serve. Four of Michigan's current customers supported Michigan for the Fostoria area.

GIPSA evaluated all available information regarding the designation criteria in section 7(f)(l)(A) of the Act and, according to section 7(f)(l)(B), determined that Amarillo, Schaal, and Wisconsin are able to provide official services in the geographic areas specified in the March 8, 2001, Federal Register, for which they applied.

GIPSA evaluated all available information regarding the designation criteria in section 7(f)(l)(A) of the Act and, according to section 7(f)(l)(B), determined that Columbus is better able than Fostoria to provide official services in the eastern portion of the Fostoria geographic area in Ohio, as follows: Wood County; parts of Sandusky County west of state Route 590; Seneca County west of State Route 53; Crawford County west of State Route 19 and north of U.S. Route 30; Wyandot County north of U.S. Route 30; and Hancock County north of U.S. Route 30 and west of U.S. Route 68.

GIPSA also evaluated all available information regarding the designation criteria in section 7(f)(l)(A) of the Act and, according to section 7(f)(l)(B), determined that Michigan is better able than Fostoria to provide official services in the western portion of the Fostoria geographic area in Ohio, as follows: Fulton County; and part of Henry County north of U.S. Route 24 and east of State Route 108.

Effective December 1, 2001, ending January 1, 2002 for Columbus, and effective December 1, 2001, ending March 31, 2004 for Michigan (concurrent with their present designations), Columbus and Michigan are designated to provide official inspection services in the geographic area specified above in addition to the areas they are already designated to serve. Interested persons may obtain official services by calling the telephone numbers listed below.

Official agency | Headquarters location and telephone | Designation start-end
Amarillo | Amarillo, TX—806-372-8511; Additional service location: Guymon, OK | 12/01/2001-09/30/2004
Columbus | Circleville, OH—740-474-3519; Additional service location: Bucyrus, OH | 02/01/1999-01/31/2002
Michigan | Marshall, MI—616-781-2711; Additional service locations: Carrollton, MI and Lima, OH | 05/01/2001-03/31/2004
Schaal | Belmond, IA—641-444-3122 | 12/01/2001-09/30/2004
Wisconsin | Madison, WI—608-224-5105; Additional service locations: Milwaukee, and Superior, WI | 12/01/2001-09/30/2004
¹ Currently designated.

Authority: Pub. L. 94-582, 90 Stat. 2867, as amended (7 U.S.C. 71 et seq.).

Dated: September 6, 2001.
David R. Shipman,
Acting Administrator, Grain Inspection, Packers and Stockyards Administration.

[FR Doc. 01-24319 Filed 9-28-01; 8:45 am]

BILLING CODE 3410-EN-P